ENVIRONMENTAL PROTECTION AGENCY

[EPA-HQ-OPP-2008-0518; FRL-8414-1]

Chloropicrin, Dazomet, Metam Sodium/Potassium, and Methyl Bromide; Amendments to Reregistration Eligibility Decisions

AGENCY: Environmental Protection Agency (EPA).

ACTION: Notice.

SUMMARY: This notice announces EPA's decision to modify certain risk mitigation measures that were specified in the 2008 Reregistration Eligibility Decisions (REDs) for the soil fumigant pesticides chloropicrin, dazomet, metam sodium/potassium, and methyl bromide. EPA conducted this reassessment of the chloropicrin, dazomet, metam sodium/potassium, and methyl bromide REDs in response to public comments received during the comment period, and new data submitted by the Chloropicrin Manufacturers' Task Force and the California Department of Pesticide Regulation. Based on the new information received, and in a continuing effort to mitigate risk, the Agency has made certain modifications in the chloropicrin, dazomet, metam sodium/potassium, and methyl bromide REDs.

FOR FURTHER INFORMATION CONTACT: For pesticide-specific information contact the Chemical Review Manager identified in the Table in Unit II. For general information contact John Leahy, Special Review and Reregistration Division, Office of Pesticide Programs, Environmental Protection Agency, 1200 Pennsylvania Ave., NW., Washington, DC 20460-0001; telephone number: (703) 305-6703; fax number: (703) 308-8090; e-mail address: leahy.john@epa.gov.

SUPPLEMENTARY INFORMATION:

I. General Information

A. Does this Action Apply to Me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established dockets for this action under the docket ID numbers listed in the Table in Unit II. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Section 4 of the Federal Insecticide, Fungicide, and Rodenticide Act (FIFRA) directs EPA to reevaluate existing pesticides to ensure that they meet current scientific and regulatory standards. In 2008, EPA issued REDs for the soil fumigants chloropicrin, dazomet, metam sodium/potassium, and methyl bromide under section 4(g)(2)(A) of FIFRA. In response to a notice of availability published in the Federal Register on July 16, 2008 (73 FR 40871) (FRL-8372-3), the Agency received substantive comments and new data and/or information from commenters and the registrant(s). The Agency's response to comments is available for viewing in the public dockets. The amended chloropicrin, dazomet, metam sodium/potassium, and methyl bromide REDs reflect changes resulting from Agency consideration of the comments and the new data received on provisions of the RED, as well as efforts by the Agency to appropriately mitigate overall risk. The RED amendments for chloropicrin, dazomet, and metam sodium/potassium, conclude EPA's reregistration eligibility decision-making process for these pesticides. For methyl bromide, the RED amendment concludes EPA's reregistration eligibility decision-making process for the soil uses of this chemical. Amendments to the commodity uses of methyl bromide will be concluded in the near future.

Due to the broad scope of these decision documents the Agency put the documents out for comment in 2008 to allow stakeholders the opportunity to review and provide comments on issues related to the implementation of the risk management measures. The Agency received numerous comments on the RED mitigation measures and has made changes to the following measures based on a review of the impacts and risks described in the comments: buffer zones, buffer zone posting, respiratory protection, tarp perforation and removal, good agricultural practices, fumigant management plans, fumigant site monitoring, response information to neighbors, training, and notice to state and tribal lead agencies. The Agency also received new chloropicrin and dazomet flux studies and has taken these new studies into consideration and revised the chloropicrin and dazomet buffer zone tables. The label table incorporated into the chloropicrin, dazomet, metam sodium/potassium, and methyl bromide RED amendments includes modifications which specify label language for the changes to the mitigation measures described above.

Table—Fumigant Contacts
Reregistration Case Name and Number | Docket ID Number | Chemical Review Manager, Telephone Number, E-mail Address
Chloropicrin, 0040 | EPA-HQ-OPP-2007-0350 | Andrea Carone (703) 308-0122 carone.andrea@epa.gov
Dazomet, 2135 | EPA-HQ-OPP-2005-0128 | Dana L. Friedman (703) 347-8827 friedman.dana@epa.gov
Metam Sodium/Potassium, 2390 | EPA-HQ-OPP-2005-0125 | Karen Santora (703) 347-8781 santora.karen@epa.gov
Methyl Bromide, 0335 | EPA-HQ-OPP-2005-0123 | Susan Bartow (703) 603-0065 bartow.susan@epa.gov

B. What is the Agency's Authority for Taking this Action?

Section 4(g)(2) of FIFRA, as amended, directs that, after submission of all data concerning a pesticide active ingredient, “the Administrator shall determine whether pesticides containing such active ingredient are eligible for reregistration,” before calling in product-specific data on individual end-use products and either reregistering products or taking other “appropriate regulatory action.”

List of Subjects

Environmental protection, Pesticides and pests.

Dated: May 15, 2009.
Richard P. Keigwin, Jr.
Director, Special Review and Reregistration Division, Office of Pesticide Programs.

[FR Doc. E9-12559 Filed 6-2-09; 8:45 a.m.]

BILLING CODE 6560-50-S